DEPARTMENT OF THE INTERIOR

Bureau of Land Management

[NV-055-5853-EU]

Submission to Office of Management and Budget—Information Collection, OMB Control Number 1004-XXXX

AGENCY: Bureau of Land Management, Interior.

ACTION: Notice and request for comments.

SUMMARY: In accordance with the Paperwork Reduction Act of 1995, the Bureau of Land Management (BLM) has submitted a request for a new information collection to the Office of Management and Budget (OMB) for approval.

DATES: The OMB is required to respond to this request within 60 days but may respond after 30 days. Submit your comments to OMB at the address below by October 12, 2007 to receive maximum consideration.

ADDRESSES: Send comments to the OMB, Interior Department Desk Officer (1004-XXXX), at OMB-OIRA via e-mail OIRA_DOCKET@omb.eop.gov or via facsimile at (202) 395-6566. Also please send a copy of your comments to BLM via Internet and include your name, address, and ATTN: 1004-XXXX in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On November 21, 2006, the BLM published a notice in the Federal Register (71 FR 63764) requesting comments on the information collection. The comment period closed on January 22, 2007. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Alternative Futures for the Upper Las Vegas Wash Survey.

OMB Control number: 1004-XXXX.

Abstract: The information from the social survey will be used by Utah State University, along with soils, biological, and resource damage information, in an alternative futures model that will predict human impacts to sensitive resources within the Upper Las Vegas Wash as adjacent development expands. The alternative futures model will assist the BLM with understanding the potential impacts to the landscape resulting from different land use decisions and implementing effective program that protect the sensitive resources in the Upper Las Vegas Wash.

Burden Estimate per Form: We estimate 30 minutes to complete this survey.

Annual Responses: 600.

Application Fee per Response: 0.

Annual Burden House: 300.

Dated: September 6, 2007.
Shirlean Beshir,
Bureau of Land Management, Information Collection Clearance Officer.

[FR Doc. 07-4474 Filed 9-11-07; 8:45 am]

BILLING CODE 4310-84-M